DEPARTMENT OF COMMERCE

International Trade Administration

[A-570-863]

Honey from the People's Republic of China: Final Results of Antidumping Duty New Shipper Review

AGENCY: Import Administration, International Trade Administration, Department of Commerce.

SUMMARY: On July 3, 2007, the Department of Commerce (“the Department”) published the preliminary results of its new shipper review of the antidumping duty order on honey from the People's Republic of China (“PRC”) for the period December 1, 2005, through June 30, 2006. See Honey from the People's Republic of China: Preliminary Results of Antidumping Duty New Shipper Review, 72 FR 36422 (July 3, 2007) (“Preliminary Results”). Based on our analysis of the record, including information obtained since the preliminary results, we continue to apply adverse facts available (“AFA”) with respect to Shanghai Bloom International Trading Co., Ltd. (“Shanghai Bloom”), which failed to cooperate to the best of its ability, provided unverifiable information, and impeded the proceeding. See Adverse Facts Available section, below.

EFFECTIVE DATE: November 30, 2007.

FOR FURTHER INFORMATION CONTACT: Erin Begnal or Michael Quigley, AD/CVD Operations, Office 9, Import Administration, International Trade Administration, U.S. Department of Commerce, 14th Street and Constitution Avenue, NW, Washington, DC 20230; telephone: (202) 482-1442 or (202) 482-4047, respectively.

Background

On July 3, 2007, the Department of Commerce (“Department”) published the preliminary results of the new shipper review of the antidumping duty order on honey from the People's Republic of China for the period December 1, 2005, through June 30, 2006. See Preliminary Results. On September 25, 2007, the Department extended the final results by thirty days. See Notice of Extension of the Final Results of Antidumping Duty New Shipper Review: Honey From the People's Republic of China, 72 FR 54436 (September 25, 2007). On October 31, 2007, the Department fully extended the final results. See Notice of Extension of the Final Results of Antidumping Duty New Shipper Review: Honey from the People's Republic of China, 72 FR 61622 (October 31, 2007). On August 2, 2007, the Department received a case brief on behalf of Shanghai Bloom. On August 8, 2007, the Department received a rebuttal brief on behalf of petitioners, the American Honey Producers Association and the Sioux Honey Association.

Scope of Order

The products covered by this order are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise subject to this order is currently classifiable under subheadings 0409.00.00, 1702.90.90, and 2106.90.99 of the Harmonized Tariff Schedule of the United States (HTSUS). Although the HTSUS subheadings are provided for convenience and customs purposes, the Department's written description of the merchandise under order is dispositive.

Analysis of Comments Received

In the case and rebuttal briefs received from the parties after the Preliminary Results, we received comments on issues related to the Department's preliminary application of AFA to Shanghai Bloom including the factors of production and completeness. All issues raised in the case briefs are addressed in the Issues and Decision Memorandum, which is hereby adopted by this notice. A list of the issues raised, all of which are in the Issues and Decision Memorandum, is attached to this notice as Appendix I. Parties can find a complete discussion of all issues raised in the briefs and the corresponding recommendations in this public memorandum on file in the Central Records Unit (“CRU”), room B-099 of the Herbert C. Hoover Building. In addition, a complete version of the Issues and Decision Memorandum can be accessed directly on the Web at http://www.trade.gov/ia. The paper copy and electronic version of the Issues and Decision Memorandum are identical in content.

Separate Rates

In our preliminary results, we found that Shanghai Bloom had met the criteria for the application of a separate antidumping duty rate. See Preliminary Results. We have not received any information since the Preliminary Results with respect to Shanghai Bloom which would warrant reconsideration of our separate-rates determination with respect to this company. Therefore, for these final results, we determine that Shanghai Bloom has met the criteria for the application of a separate rate.

Changes Since the Preliminary Results

Based on the comments received from the interested parties, we have made no changes to the preliminary results. For the final results, we have adopted our positions in the preliminary results. We continue to find that the application of total adverse facts available is warranted for Shanghai Bloom pursuant to sections 776(a)(2)(A), (C), and (D) and 776(b) of the Tariff Act of 1930, as amended (“the Act”). For a discussion, see the Issues and Decision Memorandum at Comments 1.

Final Results of Review

We determine that the following margin exists during the period December 1, 2005, through June 30, 2006:¹

¹ For these final results, the AFA margin we are using is 221.02, which is the highest rate established in Honey from the People's Republic of China: Final Results and Final Rescission, In Part, of Antidumping Duty Administrative Review, 72 FR 37715 (July 11, 2007), published subsequent to the preliminary results of this new shipper review.

Honey From the PRC
Manufacturer/Exporter | Weighted-Average Margin (Percent)
Linxiang Jindeya Beekeeping Co., Ltd./ Shanghai Bloom International Trading Co., Ltd. | 221.02

Assessment of Antidumping Duties

The Department will determine, and CBP shall assess, antidumping duties on all appropriate entries. The Department intends to issue assessment instructions to CBP 15 days after the date of publication of these final results of review. We will instruct CBP to assess antidumping duties on all appropriate entries covered by this review.

Cash Deposit Requirements

The following cash deposit requirements will be effective upon publication of the final results of this new shipper review for all shipments of the subject merchandise entered, or withdrawn from warehouse, for consumption on or after the publication date, as provided for by section 751(a)(2)(C) of the Act: (1) for subject merchandise exported by Shanghai Bloom, the cash-deposit rate will be equal to 221.02 percent; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 221.02 percent; and (4) for all non-PRC exporters of subject merchandise which have not received their own rate, the cash deposit rate will be the rate applicable to the PRC exporters that supplied that non-PRC exporter. These deposit requirements, when imposed, shall remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

These reviews and notice are in accordance with sections 751(a)(1), 751(a)(2) and 777(i)(1) of the Act and 19 CFR 351.221(b)(5).

Dated: November 23, 2007.
Stephen J. Claeys,
Acting Assistant Secretary for Import Administration.

[FR Doc. E7-23287 Filed 11-29-07; 8:45 am]

BILLING CODE 3510-DS-S